DEPARTMENT OF THE INTERIOR

Bureau of Land Management

[14X.LLAZG02200.L16100000.DO0000.LXSS206A0000.241A]

Supplemental Notice of Intent To Prepare a Travel Management Plan Concurrent With the San Pedro Riparian National Conservation Area Resource Management Plan and Associated Environmental Impact Statement, Arizona

AGENCY: Bureau of Land Management, Interior.

ACTION: Notice.

SUMMARY: In compliance with the National Environmental Policy Act of 1969 (NEPA), as amended, the Federal Land Policy and Management Act of 1976 (FLPMA), as amended, and the Arizona-Idaho Conservation Act of 1988 (creating the San Pedro National Conservation Area), the Bureau of Land Management (BLM) Tucson Field Office, Tucson, Arizona, intends to prepare a Travel Management Plan (TMP) concurrent with the preparation of a Resource Management Plan (RMP) and associated Environmental Impact Statement (EIS) for the San Pedro Riparian National Conservation Area (SPRNCA). This notice announces the beginning of the scoping process to solicit public comments and identify issues for the TMP.

DATES: Comments on issues related to travel management planning may be submitted in writing until November 10, 2014. The date(s) and location(s) of any scoping meetings will be announced at least 15 days in advance through local media, newspapers, and the BLM Web site at: http://www.blm.gov/az/st/en/fo/tucson_field_office.html. In order to be included in the TMP, all comments must be received prior to the close of the 30-day scoping period or 30 days after the last public meeting, whichever is later. We will provide additional opportunities for public participation upon publication of the TMP and Draft RMP/Draft EIS.

ADDRESSES: You may submit comments on the TMP by any of the following methods:

• Email: blm_az_tfo_sprnca@blm.gov

• Project Web site: https://www.blm.gov/epl-front-office/eplanning/planAndProjectSite.do?methodName=renderDefaultPlanOrProjectSite&projectId=36503&dctmId=0b0003e8804c8caa

• Regular mail: Bureau of Land Management Tucson Field Office, 3201 East Universal Way, Tucson, AZ 85756

Documents pertinent to this proposal may be examined at the Tucson Field Office.

FOR FURTHER INFORMATION CONTACT: David McIntyre, SPRNCA RMP Project Manager, telephone 520-258-7259; address 3201 East Universal Way, Tucson, AZ 85756; email dmcintyre@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: A Notice of Intent for the SPRNCA RMP and EIS was published on April 30, 2013 (78 FR 25299), with a 90-day scoping period that included scoping meetings during the summer. Due to public interest, the RMP scoping period was extended until September 27, 2013, for a total of 150 days. This document provides notice that the BLM Tucson Field Office, Tucson, Arizona, intends to prepare a TMP concurrent with the preparation of an RMP and associated EIS for the SPRNCA. It announces the beginning of the TMP scoping process, and seeks public input on travel and transportation issues and route designation within the SPRNCA. The SPRNCA, which encompasses 56,347 acres of public land located within Cochise County, Arizona, was designated by Congress on November 18, 1988. The Arizona-Idaho Conservation Act of 1988 (Pub. L. 100-696) established that the land must be managed to conserve, protect and enhance the riparian area and the aquatic, wildlife, archaeological, paleontological, scientific, cultural, educational, and recreational resources of the area. It also requires the designation of roads for motorized vehicle use be included in a comprehensive long-range plan for the area. Developing the TMP in conjunction with the RMP and associated EIS will satisfy this requirement. In addition to considering the designation of roads for motorized use, the TMP will identify and consider primitive roads and trails available for non-motorized use. Decisions in the TMP will be limited to BLM-administered land within the planning area boundary. The purpose of the public scoping process is to determine relevant issues that will influence the scope of the environmental analysis and alternatives to be considered in development of the TMP. Preliminary issues for the TMP have been identified by BLM personnel; Federal, State, and local agencies; and other stakeholders. They represent the BLM's knowledge to date of the existing issues and concerns with current management. Some of these issues and concerns include:

• Impacts to other public land users and adjacent private landowners;

• Impacts to wildlife habitat;

• Impacts to water quality, cultural sites, vegetation, including riparian and wetland areas, and soils; and

• Identification of recreational opportunities.

• Possible use of hierarchical mitigation strategies that include avoidance, minimization, and compensation, on a local or regional scale, if appropriate.

The BLM will use NEPA public participation requirements to assist the agency in satisfying the public involvement requirements under Section 106 of the National Historic Preservation Act (NHPA) (16 U.S.C. 470 (f) pursuant to 36 CFR 800.2(d)(3). The information about historic and cultural resources within the area potentially affected by the proposed TMP will assist the BLM in identifying and evaluating impacts to such resources in the context of both NEPA and Section 106 of the NHPA. The BLM will consult with Indian tribes on a government-to-government basis in accordance with Executive Order 13175 and other policies. Tribal concerns, including impacts on Indian trust assets and potential impacts to cultural resources, will be given due consideration. Federal, State, and local agencies, along with tribes that may be interested in or affected by the proposed TMP the BLM is evaluating in conjunction with the SPRNCA RMP and associated EIS are invited to participate in the scoping process, and if eligible, may request or be requested by the BLM to participate in the development of the environmental analysis as a cooperating agency.

Before including your address, phone number, email address, or other personal identifying information in your comment, you should be aware that your entire comment—including your personal identifying information—may be publicly available at any time. While you can ask us in your comment to withhold your personal identifying information from public review, we cannot guarantee that we will be able to do so.

Authority: 40 CFR 1501.7, 43 CFR 1610.2

Raymond Suazo,
State Director.

[FR Doc. 2014-24077 Filed 10-8-14; 8:45 am]

BILLING CODE 4310-32-P